ENVIRONMENTAL PROTECTION AGENCY

40 CFR Part 52

[EPA-R08-OAR-2017-0634; FRL-9972-14—Region 8]

Approval and Promulgation of Air Quality Implementation Plans; State of Montana; Revisions to East Helena Lead SIP

AGENCY: Environmental Protection Agency (EPA).

ACTION: Proposed rule.

SUMMARY: The Environmental Protection Agency (EPA) is proposing to approve State Implementation Plan (SIP) revisions submitted by the state of Montana on September 11, 2013. The submittal revises the portions of the Administrative Rules of Montana (ARM) that pertain to the East Helena Lead SIP. This action is being taken under section 110 of the Clean Air Act (CAA) (Act).

DATES: Written comments must be received on or before February 12, 2018.

ADDRESSES: Submit your comments, identified by EPA-R08-OAR-2017-0634 at http://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kevin Leone, Air Program, U.S. Environmental Protection Agency (EPA), Region 8, Mailcode 8P-AR, 1595 Wynkoop Street, Denver, Colorado 80202-1129, (303) 312-6227, leone.kevin@epa.gov.

SUPPLEMENTARY INFORMATION:

I. General Information

What should I consider as I prepare my comments for the EPA?

a. Submitting Confidential Business Information (CBI). Do not submit CBI to the EPA through http://www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

b. Tips for Preparing Your Comments. When submitting comments, remember to:

i. Identify the rulemaking by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

The proposed SIP revisions stem from a June 10, 2013, Montana Board of Environmental Review Order (Board Order) removing a stipulated condition in an August 4, 1995 Board Order. The condition limited the allowable concentration of lead in raw feed material at the American Chemet Corporation's East Helena facility. Specifically, American Chemet requested a change to the 1995 Board Order which would eliminate Exhibit A, Section C, Subsection B. This subsection reads:

“Feed Material into the plant shall have a quarterly average lead content of less than 0.15%, and an average annual lead content of less than 0.10%.”

All other East Helena Lead SIP provisions, including direct numerical limits on lead emissions from American Chemet Corporation's East Helena facility, would remain unchanged.

The East Helena Lead SIP includes a “lead in feed” limitation for the American Chemet facility, which was created as part of the Montana Department of Environmental Quality's (DEQ) efforts to respond to the EPA's designation of East Helena as a nonattainment area for the 1978 National Ambient Air Quality Standard (NAAQS) for airborne lead. The American Chemet East Helena facility produces cuprous oxides, cupric oxides, and fine particle size copper powders. In the 1990's, through informal discussions between DEQ and American Chemet, the parties arrived at restrictions on lead emissions for the East Helena area to meet and maintain compliance with the 1978 lead NAAQS. The principal target for curtailing lead emissions was the American Smelting and Refining Company (ASARCO) facility, which was a lead smelter located adjacent to American Chemet's East Helena facility. In addition to shutting down its operations in 2001, ASARCO demolished its stacks in 2009. After the ASARCO facility shut down in 2001, ambient air monitoring during the following six months showed that East Helena was in compliance with the 1978 lead NAAQS of 1.5 micrograms per cubic meter (ug/m ³).

The EPA subsequently promulgated a new, more stringent, lead NAAQS standard (0.15 ug/m³); the final rulemaking was published on November 12, 2008 (73 FR 66964). In our final 2011 rulemaking (76 FR 72097) to designate areas of the country as attainming or nonattaining for the 2008 lead NAAQS, the EPA noted that the most recent three years of available monitoring data from the East Helena nonattainment area showed no violations of the 2008 standard (See Montana's September 11, 2013 submittal), although the monitors were shut down in December 2001 (roughly six months after the shut down of the large stationary source of lead emissions, ASARCO). Effective December 31, 2011, the entire state of Montana, including the East Helena area, was designated as “Unclassifiable/Attainment” for the 2008 Lead NAAQS. In the rulemaking for the 2011 designation, the EPA reiterated that the 1978 standard would remain in effect for the East Helena area until an implementation plan for the 2008 lead NAAQS was approved by the EPA (76 FR 72099). Accordingly, and as required in 40 CFR 50.12, Montana's nonattainment status for the the 1978 lead NAAQS will apply for East Helena until the state submits, and the EPA approves, an implementation plan providing for attainment and/or maintenance of the 2008 Lead NAAQS. The EPA amended 40 CFR 50.12 to reflect the possibility that the nonattainment status for the old standard could be revoked upon the EPA's approval of a maintenance plan for the new standard (73 FR 67043). The EPA encourages Montana to submit such an implementation plan for East Helena in the near future.

On December 18, 2009, in response to the DEQ's request for the EPA's guidance concerning modifying the 1995 Board order to eliminate Exhibit A, Section C, Subsection B, the EPA sent a letter dated December 18, 2009 (See docket) to the DEQ that stated:

“. . . our preliminary view is that we could allow a revision to the Montana State Implementation Plan (SIP) that would eliminate Exhibit A, Section C, Subsection B from the 1995 Board Order if the conditions listed below are met.

1. DEQ must perform modeling sufficient to demonstrate noninterference with the attainment and maintenance of the lead NAAQS (a demonstration for the new standard will suffice for the old standand). AERMOD is appropriate to use for the modeling. If DEQ meets condition 2 below, DEQ may assume in modeling that ASARCO's stack emissions are zero but will need to input appropriate values for any remaining lead emissions from ASARCO, such as fugitive emissions.

2. The State must finalize the revocation of ASARCO's permit and provide us with evidence of, and ASARCO's consent to, the revocation. In the alternative, the SIP revision must state that ASARCO has shut down permanently and that ASARCO would need to go through New Source Review permitting in order to resume operations.”

American Chemet submitted to DEQ a modeling analysis on December 4, 2012 (see docket). The EPA has reviewed the supplied modeling analysis and agrees that the methodology is in accordance with 40 CFR part 51, Appendix W and the EPA's “Guideline on Air Quality Models.” The AERMOD analysis used the emission limits in the SIP, located in Condition II.A.4.b of the 1995 Board Order, of 0.007 lb/hr and the results of the modeling analysis are valid. The AERMOD modeling analysis shows a concentration of 0.14 ug/m³ (which includes background concentrations); and therefore, East Helena is below the lead NAAQS threshold for the 2008 lead NAAQS standard (0.15 ug/m³). In particular, the modeling shows that operating the facility at the remaining SIP limits does not violate the 2008 lead NAAQS, even including background ambient lead concentrations. The submitted modeling analysis used background concentrations of lead based off of lead monitoring results that were performed during the three quarters immediately after the ASARCO facility ceased operations in April of 2001.

On December 9, 2009, ASARCO's representative sent a letter to DEQ requesting the revocation of Montana Air Quality Permit (MAQP) #2557. On September 3, 2013, the DEQ sent a letter to the EPA stating that, in a letter dated December 16, 2009, the DEQ notified ASARCO of its intent to revoke MAQP #2557. In accordance with the Administrative Rules of Montana (ARM) 17.8.763, the revocation of MAQP #2557 was final within 15 days of ASARCO's receipt of the letter unless ASARCO requested a hearing before the Board of Environmental Review. ASARCO did not request a hearing; therefore, the revocation of MAQP #2557 became final following the 15-day appeal period. The previously mentioned letters are all available in the docket for this proposed rulemaking. In addition, ASARCO's Title V permit expired on April 5, 2007, and DEQ did not receive a renewal application. Any new industrial operations on the former ASARCO site would be required to go through major New Source Review permitting before construction.

III. Proposed Action

The EPA is proposing to approve the state of Montana's revisions, as submitted on September 11, 2013, to remove Exhibit A, Section C, Subsection B from the August 4, 1995 Board Order. This Board order is found in the Montana SIP under “EPA-approved Source-Specific Requirements.” The final rulemaking approving the 1995 Board Order for adoption into the SIP can be found at 66 FR 32760.

This revision is in compliance with CAA section 110(l) because it does not change American Chemet's SIP emission limits and modeling has shown that it will not interfere with the 2008 Lead NAAQS. No other criteria pollutant emissions would be impacted by this proposed action. In addition, CAA section 193 does not apply to this revision because the American Chemet limits were approved into the SIP after November 15, 1990. Furthermore, any new industrial construction on the former ASARCO site would be required to go through major New Source Review construction permitting before construction.

IV. Incorporation by Reference

In this action, the EPA is proposing to include in a final EPA rule regulatory text that includes incorporation by reference. In accordance with requirements of 1 CFR 51.5, the EPA is proposing the incorporation by reference of a change to the State of Montana's SIP regarding a 1995 Board Order; this action would eliminate Exhibit A, Section C, Subsection B. This Board order is found in the Montana SIP under “EPA-approved Source-Specific Requirements.” The EPA has made, and will continue to make, these materials generally available through www.regulations.gov and at the EPA Region 8 Office (please contact the person identified in the FOR FURTHER INFORMATION CONTACT section of this preamble for more information).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely proposes to approve state law as meeting federal requirements and does not impose additional requirements beyond those imposed by state law. For that reason, this proposed action:

• Is not a “significant regulatory action” subject to review by the Office of Management and Budget under Executive Order 12866 (58 FR 51735, October 4, 1993);

• is not expected to be an Executive Order 13771 regulatory action because this action is not significant under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: January 2, 2018.
Douglas H. Benevento,
Regional Administrator, Region 8.

[FR Doc. 2018-00114 Filed 1-11-18; 8:45 am]

BILLING CODE 6560-50-P